DEPARTMENT OF ENERGY

Notice of Additional Public Hearing for the Draft Global Nuclear Energy Partnership Programmatic Environmental Impact Statement

AGENCY: Office of Nuclear Energy, U.S. Department of Energy.

ACTION: Notice of additional public hearing.

SUMMARY: On October 17, 2008, DOE published a Notice of Availability and Public Hearings (73 FR 61845) for the Draft Global Nuclear Energy Partnership Programmatic Environmental Impact Statement (Draft GNEP PEIS, DOE/EIS-0396). That notice commenced a 60-day public comment period and provided the schedule for 13 public hearings to receive comments on the Draft GNEP PEIS. On December 10, 2008, DOE announced an extension of the public comment period by 90 days, i.e., through March 16, 2009 (73 FR 75087). Today, DOE announces that an additional public hearing on the Draft GNEP PEIS will be conducted beginning at 7 p.m. on January 12, 2009, in the Town of Pahrump in Nye County, NV.

FOR FURTHER INFORMATION CONTACT: Please direct questions regarding the additional public hearing, requests for additional information, or requests for copies of the Draft GNEP PEIS, to Mr. Francis Schwartz, GNEP PEIS Document Manager, Office of Nuclear Energy (NE-5), U.S. Department of Energy, 1000 Independence Avenue, SW., Washington, DC 20585. Questions also may be telephoned, toll free, to 1-866-645-7803.

For general information regarding the DOE NEPA process contact: Ms. Carol M. Borgstrom, Director, Office of NEPA Policy and Compliance (GC-20), U.S. Department of Energy, 1000 Independence Avenue, SW., Washington, DC 20585, telephone 202-586-4600, or leave a message at 1-800-472-2756. Additional information regarding DOE NEPA activities and access to many of DOE's NEPA documents are available on the DOE NEPA Web site at http://www.gc.energy.gov/NEPA.

SUPPLEMENTARY INFORMATION: On October 17, 2008, DOE published a Notice of Availability and Public Hearings (73 FR 61845) for the Draft Global Nuclear Energy Partnership Programmatic Environmental Impact Statement (Draft GNEP PEIS, DOE/EIS-0396). That notice commenced a 60-day public comment period and provided the schedule for 13 public hearings to receive comments on the Draft GNEP PEIS. On December 10, 2008, DOE announced an extension of the public comment period by 90 days, i.e., through March 16, 2009 (73 FR 75087). DOE will consider comments received after this date to the extent practicable as it prepares the Final GNEP PEIS. Today, DOE announces an additional public hearing on the Draft GNEP PEIS to be held on January 12, 2009, at the Bob Ruud Community Center, 150 North Highway 160 in the Town of Pahrump in Nye County, NV.

An Open House will begin at 6 p.m., during which DOE officials will be available to discuss the Draft GNEP PEIS and answer questions. The public hearing will begin at 7 p.m. with a presentation by a DOE official followed by the receipt of oral comments from interested members of the public. Individuals who would like to present comments orally at the hearing must register upon arrival at the hearing. DOE will allot two to five minutes, depending upon the number of speakers, to each individual wishing to speak so as to ensure that as many people as possible have the opportunity to speak. More time may be allotted by the hearing moderator as circumstances allow.

Written comments on the Draft GNEP PEIS should be submitted to Mr. Francis Schwartz, GNEP PEIS Document Manager, Office of Nuclear Energy (NE-5), U.S. Department of Energy, 1000 Independence Ave., SW., Washington, DC 20585, by facsimile to 866-489-1891, or electronically through www.regulations.gov. Please mark correspondence “Draft GNEP PEIS Comments.” Additional information on GNEP may be found at http://www.gnep.energy.gov.

The Draft GNEP PEIS and supporting references are available on the Internet at http://www.gnep.energy.gov and will be available in the public reading room at: Nuclear Waste Repository Project Office, 1210 E. Basin Road, Suite #6, Pahrump, NV 89060, Phone: 775-727-7727.

In addition, the Draft GNEP PEIS is available on the Internet at www.regulations.gov and on the DOE NEPA Web site at http://www.gc.energy.gov/NEPA.

Issued in Washington, DC, on December 17, 2008.
Dennis R. Spurgeon,
Assistant Secretary for Nuclear Energy.

[FR Doc. E8-30656 Filed 12-23-08; 8:45 am]

BILLING CODE 6450-01-P